COMMITTEE FOR PURCHASE FROM PEOPLE WHO ARE BLIND OR SEVERELY DISABLED.

Procurement List; Proposed Additions and Deletions

AGENCY: Committee for Purchase from People Who Are Blind or Severely Disabled.

ACTION: Proposed Additions to and Deletions from Procurement List.

SUMMARY: The Committee is proposing to add to the Procurement List products and services to be furnished by nonprofit agencies employing persons who are blind or have other severe disabilities, and to delete products previously furnished by such agencies.

Comments Must Be Received on or Before: August 25, 2002.

ADDRESSES: Committee for Purchase From People Who Are Blind or Severely Disabled, Jefferson Plaza 2, Suite 10800, 1421 Jefferson Davis Highway, Arlington, Virginia 22202-3259.

FOR FURTHER INFORMATION CONTACT: Sheryl Kennerly, (703) 603-7740.

SUPPLEMENTARY INFORMATION: This notice is published pursuant to 41 U.S.C 47(a) (2) and 41 CFR 51-2.3. Its purpose is to provide interested persons an opportunity to submit comments on the possible impact of the proposed actions.

Additions

If the Committee approves the proposed additions, the entities of the Federal Government identified in this notice for each product or service will be required to procure the products and services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

The following products and services are proposed for addition to Procurement List for production by the nonprofit agencies listed:

Products

Product/NSN: Marker, Lumocolor, Non-Permanent, 7520-00-NIB-1582 (Set of 8, medium point, assorted colors).

Product/NSN: Marker, Lumocolor, Non-Permanent, 7520-00-NIB-1583 (Set of 6, medium point, assorted colors).

Product/NSN: Marker, Lumocolor, Non-Permanent, 7520-00-NIB-1584 (Set of 4, medium point, assorted colors).

Product/NSN: Marker, Lumocolor, Permanent, 7520-00-NIB-1585 (Set of 8, medium point, assorted colors).

Product/NSN: Marker, Lumocolor, Permanent, 7520-00-NIB-1586 (Set of 6, medium point, assorted colors).

Product/NSN: Marker, Lumocolor, Permanent, 7520-00-NIB-1587 (Set of 4, medium point, assorted colors).

Product/NSN: Marker, Lumocolor, Non-Permanent, 7520-00-NIB-1636 (Set of 8, fine point, assorted colors).

Product/NSN: Marker, Lumocolor, Non-Permanent, 7520-00-NIB-1637 (Set of 6, fine point, assorted colors).

Product/NSN: Marker, Lumocolor, Non-Permanent, 7520-00-NIB-1638 (Set of 4, fine point, assorted colors).

Product/NSN: Marker, Lumocolor, Permanent, 7520-00-NIB-1639 (Set of 8, fine point, assorted colors).

Product/NSN: Marker, Lumocolor, Permanent, 7520-00-NIB-1640 (Set of 6, fine point, assorted colors).

Product/NSN: Marker, Lumocolor, Permanent, 7520-01-392-5295 (Set of 4, fine point, assorted colors).

NPA: Winston-Salem Industries for the Blind, Winston-Salem, North Carolina.

Contract Activity: Office Supplies & Paper Products Acquisition Center, New York, New York.

Product/NSN: Paper, Copy, Chlorine-free 50% PCW, 7530-00-NIB-0644 (8½″ x 11″).

Product/NSN: Paper, Copy, Chlorine-free 50% PCW, 7530-00-NIB-0645 (8½″ x 14″).

Product/NSN: Paper, Copy, Chlorine-free 50% PCW, 7530-00-NIB-0646 (8½″ x 11″ 3-hole).

Product/NSN: Paper, Copy, Chlorine-free 50% PCW, 7530-00-NIB-0647 (11″ x 17″).

NPA: Louisiana Association for the Blind, Shreveport, Louisiana.

Contract Activity: Office Supplies & Paper Products Acquisition Center, New York, New York.

Services

Service Type/Location: Administrative Services, MEDCOM Health Care Acquisition Activity. Fort Sam Houston, Texas.

NPA: Goodwill Industries of San Antonio, San Antonio, Texas.

Contract Activity: MEDCOM Health Care Acquisition Activity, Fort Sam Houston, Texas.

Service Type/Location: Administrative Support Services, GSA Greater Chicagoland Service Center. Chicago, Illinois.

NPA: The Chicago Lighthouse for People who are Blind or Visually Impaired, Chicago, Illinois.

Contract Activity: GSA Greater Chicagoland Service Center, Chicago, Illinois.

Deletions

I certify that the following action will not have a significant impact on a substantial number of small entities. The major factors considered for this certification were:

1. If approved, the action will not result in any additional reporting, recordkeeping or other compliance requirements for small entities other than the small organizations that will furnish the product to the Government.

2. If approved, the action will result in authorizing small entities to furnish the product to the Government.

3. There are no known regulatory alternatives which would accomplish the objectives of the Javits-Wagner-O'Day Act (41 U.S.C. 46-48c) in connection with the product proposed for deletion from the Procurement List.

The following product is proposed for deletion from the Procurement List:

Product

Product/NSN: Tape, Postage Meter, 7530-00-912-3924.

NPA: Cincinnati Association for the Blind, Cincinnati, Ohio.

Contract Activity: Office Supplies & Paper Products Acquisition Center, New York, New York.

Sheryl D. Kennerly,
Director, Information Management.

[FR Doc. 02-19002 Filed 7-25-02; 8:45 am]

BILLING CODE 6353-01-P